DEPARTMENT OF THE TREASURY

Office of the Comptroller of the Currency

[OCC Charter Number 700646]

Mutual to Stock Conversion; Community Savings, Caldwell, Ohio; Approval of Conversion Application

Notice is hereby given that on November 9, 2016, the Office of the Comptroller of the Currency (OCC) approved the application of Community Savings, Caldwell, Ohio, to convert to the stock form of organization. Copies of the application are available on the OCC Web site at the FOIA Reading Room (https://foia-pal.occ.gov/palMain.aspx) under Mutual to Stock Conversion Applications. If you have any questions, please contact Licensing Activities at (202) 649-6260.

Dated: November 9, 2016.
By the Office of the Comptroller of the Currency.
Stephen A. Lybarger,
Deputy Comptroller for Licensing.

[FR Doc. 2016-27528 Filed 11-15-16; 8:45 am]

BILLING CODE 4810-33-P